DEPARTMENT OF COMMERCE

International Trade Administration

[C-570-968]

Aluminum Extrusions From the People's Republic of China: Notice of Partial Rescission of Countervailing Duty Administrative Review

AGENCY: Enforcement and Compliance, formerly Import Administration, International Trade Administration, Department of Commerce.

DATES: Effective Date: November 8, 2013.

FOR FURTHER INFORMATION CONTACT: Kristen Johnson or Brooke Kennedy, AD/CVD Operations, Office III, Enforcement and Compliance, International Trade Administration, U.S. Department of Commerce, 14th Street and Constitution Avenue NW., Washington, DC 20230; telephone: (202) 482-4793 or (202) 482-3818, respectively.

SUPPLEMENTARY INFORMATION:

Background

On May 1, 2013, the Department of Commerce (the Department) published a notice of opportunity to request an administrative review of the countervailing duty (CVD) order on aluminum extrusions from the People's Republic of China (PRC).¹ Pursuant to requests from interested parties, the Department initiated an administrative review with respect to 153 companies for the period January 1, 2012, through December 31, 2012.² The deadline for a party to withdraw a request for review was September 26, 2013.³

¹ See Antidumping or Countervailing Duty Order, Finding, or Suspended Investigation; Opportunity To Request Administrative Review, 78 FR 25420, 25424 (May 1, 2013).

² See Initiation of Antidumping and Countervailing Duty Administrative Reviews and Request for Revocation in Part, 78 FR 38924 (June 28, 2013) (Initiation Notice).

³ See Department Memorandum regarding “Deadline to File Withdrawal of Requests for Review” (September 18, 2013). This public document and all other public documents and public versions of all business proprietary documents are on file electronically via IA ACCESS, which is available to registered users at http://iaaccess.trade.gov and in the Central Records Unit, room 7046 of the main Department of Commerce building.

Withdrawal of Review Requests

Between August 13, 2013, and September 26, 2013, several interested parties filed with the Department submissions to withdraw review requests.⁴ The companies for which a request for an administrative review was withdrawn and for which there is no outstanding review request are listed in the attachment to this notice.

⁴ On August 13, 2013, Manhattan American Terrazzo Strip Co., Inc. withdrew its review request of North Fenghua Aluminum Ltd. On August 26, Shenzhen Hudson Technology Development Co., Ltd. withdrew its review request of itself. On August 27, 2013, Dek Rail Solution withdrew its review request of Nanhai Textiles Import & Export Co., Ltd. of Guangdong. On September 26, 2013, the Aluminum Extrusions Fair Trade Committee (the Petitioner) withdrew its review request of 80 companies.

Partial Rescission of the 2012 Administrative Review

Pursuant to 19 CFR 351.213(d)(1), the Department will rescind an administrative review, in whole or in part, if the parties that requested a review withdraw the request within 90 days of the date of publication of the notice of initiation. The Department published the notice of initiation of this review on June 28, 2013.⁵ All withdrawal of review requests were submitted within the 90-day deadline set forth under 19 CFR 351.213(d)(1). Further, no other party requested an administrative review of these particular companies. Therefore, in accordance with 19 CFR 351.213(d)(1), and consistent with our practice,⁶ we are rescinding this review of the CVD order on aluminum extrusions from the PRC with respect to the companies listed in the attachment to this notice. The review will continue with respect to all other firms for which a review was requested and initiated.

⁵ See Initiation Notice.

⁶ See, e.g., Certain Lined Paper Products From India: Notice of Partial Rescission of Antidumping Duty Administrative Review and Extension of Time Limit for the Preliminary Results of Antidumping Duty Administrative Review, 74 FR 21781 (May 11, 2009); and Aluminum Extrusions From the People's Republic of China: Notice of Partial Rescission of Countervailing Duty Administrative Review, 77 FR 65671 (October 30, 2012).

Assessment

The Department will instruct U.S. Customs and Border Protection (CBP) to assess CVDs on all appropriate entries. For the companies for which this review is rescinded, CVDs shall be assessed at rates equal to the cash deposit of estimated CVDs required at the time of entry, or withdrawal from warehouse, for consumption, during the period January 1, 2012, through December 31, 2012, in accordance with 19 CFR 351.212(c)(1)(i).

The Department intends to issue appropriate assessment instructions directly to CBP 15 days after publication of this notice.

Notification Regarding Administrative Protective Order

This notice serves as a reminder to parties subject to the administrative protective order (APO) of their responsibility concerning the disposition of proprietary information disclosed under an APO in accordance with 19 CFR 351.305(a)(3), which continues to govern business proprietary information in this segment of the proceeding. Timely written notification of the return or destruction of APO materials, or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: November 4, 2013.
Christian Marsh,
Deputy Assistant Secretary for Antidumping and Countervailing Duty Operations.

Attachment—Companies for Which Administrative Review Requests Were Withdrawn

Acro Import and Export Co.

Activa International Inc.

Changshu Changshen Aluminum Products Co., Ltd.

Changzhou Tenglong Auto Parts Co., Ltd

Clear Sky Inc

Cosco (J.M.) Aluminum Co., Ltd

Dynamic Technologies China

First Union Property Limited

Foreign Trade Co. of Suzhou New & Hi-Tech Industrial Development Zone

Foshan City Nanhai Hongjia Aluminum Alloy Co.

Foshan Guancheng Aluminum Co., Ltd

Foshan Jinlan Aluminum Co. Ltd.

Foshan JMA Aluminum Company Limited

Foshan Shanshui Fenglu Aluminum Co., Ltd.

Foshan Shunde Aoneng Electrical Appliances Co., Ltd

Foshan Yong Li Jian Alu. Ltd

Fujian Sanchuan Aluminum Co., Ltd

Gangzhou Mingcan Die-Casting Hardware Products, Co. Ltd.

Global PMX Dongguan Co., Ltd.

Golden Dragon Precise Copper Tube Group, Inc.

Gree Electric Appliances

Guang Dong Xin Wei Aluminum Products Co., Ltd

Guangdong Xingfa Aluminum Co., Ltd

Hangzhou Zingyi Metal Products Co., Ltd

Hanwood Enterprises Limited

Hao Mei Aluminum Co., Ltd

Hao Mei Aluminum International Co., Ltd

Honsense Development Company

Hui Mei Gao Aluminum Foshan Co., Ltd.

Idex Dinglee Technology (Tianjin Co., Ltd)

Idex Health

Innovative Aluminum (Hong Kong) Limited

Jiangmen Qunxing Hardware Diecasting Co., Ltd.

Jiangyin Trust International Inc

Jiangyin Xinhong Doors and Windows Co., Ltd.

Jiaxing Taixin Metal Products Co., Ltd.

JMA (HK) Company Limited

Kanal Precision Aluminum Product Co., Ltd

Karlton Aluminum Company Ltd.*

Kunshan Giant Light Metal Technology Co., Ltd.

Liaoyang Zhongwang Aluminum Profiled Co. Ltd.

Longkou Donghai Trade Co., Ltd.

Midea Air Conditioning Equipment Co., Ltd.

Miland Luck Limited

Nanhai Textiles Import & Export Co., Ltd. of Guangdong

New Asia Aluminum & Stainless Steel Product Co., Ltd.

Nidec Sankyo Singapore Pte. Ltd.

Ningbo Coaster International Co., Ltd.

Ningbo Hi Tech Reliable Manufacturing Company

Ningbo Yili Import and Export Co., Ltd.

North China Aluminum Co., Ltd.

North Fenghua Aluminum Ltd.

Northern States Metals

PanAsia Aluminum (China) Limited

Pingguo Aluminum Company Limited

Pingguo Asia Aluminum Co., Ltd

Popular Plastics Company Limited

Samuel, Son & Co., Ltd.

Sanchuan Aluminum Co., Ltd

Shangdong Huasheng Pesticide Machinery Co.

Shangdong Nanshan Aluminum Co., Ltd

Shanghai Canghai Aluminum Tube Packaging Co., Ltd

Shanghai Dongsheng Metal

Shanghai Shen Hang Imp & Exp Co., Ltd.

Shenzhen Hudson Technology Development Co., Ltd.

Shenzhen Jiuyuan Co., Ltd

Suzhou JRP Import & Export Co., Ltd.

Suzhou New Hongji Precision Part Co

Tai-Ao Aluminum (Taishan) Co. Ltd

Taogoasei America Inc

Tianjin Ganglv Nonferrous Metal Materials Co., Ltd.

Top-Wok Metal Co., Ltd.

USA Worldwide Door Components (Pinghu) Co., Ltd.

Xin Wei Aluminum Company Limited

Xinya Aluminum & Stainless Steel Product Co., Ltd.

Zhaoqing Asia Aluminum Factory Company Ltd

Zhaoqing New Zhongya Aluminum Co., Ltd.*

Zhejiang Anji Xinxiang Aluminum Co., Ltd.

Zhejiang Yongkang Listar Aluminum Industry Co., Ltd

Zhejiang Zhengte Group Co., Ltd.

Zhenjiang Xinlong Group Co., Ltd.

Zhongshan Gold Mountain Aluminium Factory Ltd. (ZGM) ⁷

⁷ In the Initiation Notice, the company's name was spelled “Zhongshan Gold Mountain Aluminum Factory Ltd.” See Initiation Notice, 78 FR at 38937. However, according to ZGM's no shipment letter filed with the Department, the company name is spelled “Zhongshan Gold Mountain Aluminium Factory Ltd.” as indicated above. See Letter from ZGM regarding “Notice of No Sales and Request to Terminate Review” (July 31, 2013).

Zhuhai Runxingtai Electrical Equipment Co., Ltd

*Because a timely withdrawal of review request was submitted, the Department is including Karlton Aluminum Company Ltd. (Karlton) and Zhaoqing New Zhongya Aluminum Co., Ltd. (Zhaoqing) in this rescission notice. However, we note that Zhaoqing is also known as Guangdong Zhongya Aluminum Company Ltd. (Guangdong).⁸ A review of Guangdong was requested and such request was not withdrawn. Furthermore, the Department previously has determined that Zhaoqing and Karlton are cross-owned affiliates with Zhongya Shaped Aluminum (HK) Holding Limited (Shaped) and that these companies are part of the company grouping known as Zhongya Companies.⁹ A review of Shaped was requested and not withdrawn.¹⁰ Therefore, Karlton and Zhaoqing remain subject to the review as part of the Zhongya Companies.¹¹ In light of the above, entries of the Zhongya Companies will remain suspended during the 2012 administrative review.

⁸ See CBP message 2319302 (November 14, 2012) available at http://addcvd.cbp.gov and also IA ACCESS.

⁹ See Aluminum Extrusions From the People's Republic of China: Final Affirmative Countervailing Duty Determination, 76 FR 18521 (April 4, 2011), and accompanying Issues and Decision Memorandum (Aluminum Extrusions Decision Memorandum) at “Attribution of Subsidies.”

¹⁰ See Initiation Notice, 78 FR at 38936-37.

¹¹ See Aluminum Extrusions Decision Memorandum at “Attribution of Subsidies.”

[FR Doc. 2013-26864 Filed 11-7-13; 8:45 am]

BILLING CODE 3510-DS-P